DEPARTMENT OF ENERGY

Federal Energy Regulatory Commission

[Docket No. RP00-416-000]

Great Lakes Gas Transmission Limited Partnership; Notice of Tariff Filing

July 26, 2000.

Take notice that on July 21, 2000, Great Lakes Gas Transmission Limited Partnership (Great Lakes) tendered for filing as part of its FERC Gas Tariff, Second Revised Volume No. 1, the following tariff sheets proposed to be effective August 1, 2000:

First Revised Sheet No. 39A

Seventh Revised Sheet No. 40

Third Revised Sheet No. 40B

Fifth Revised Sheet No. 41

Fourth Revised Sheet No. 45

Great Lakes states that these tariff sheets are being filed to comply with the Commission's Order Nos. 637 and 637-A issued on February 9, 2000 and May 19, 2000, respectively, in Docket Nos. RM98-10 and RM98-12, et al 90 FERC ¶ 61,109 (2000); 91 FERC ¶ 61,169 (2000). Among other things, Order Nos. 637 and 637-A waived the rate ceiling for short-term capacity release transactions and limited the availability of the Right of First Refusal to contracts at the maximum tariff rate having a term of twelve consecutive months or longer or, for services not available for 12 consecutive months, for a term of more than one year.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-19321 Filed 7-31-00; 8:45 am]

BILLING CODE 6717-01-M